DEPARTMENT OF HEALTH AND HUMAN SERVICES

Indian Health Service

[CFDA NUMBERS: 93.971, 93.123, AND 93.972]

Indian Health Professions Preparatory, Indian Health Professions Pre-Graduate and Indian Health Professions Scholarship Programs

Announcement Type: Initial.

Key Dates

Application Deadline Date: February 28, 2021, 7:00 p.m. Eastern.

Application Review Date: March 30-April 30, 2021.

Continuation Award Notification Deadline Date: June 5, 2021.

New Award Notification Deadline Date: July 15, 2021.

Award Start Date: August 1, 2021.

Acceptance/Decline of Awards Deadline Date: August 15, 2021.

I. Funding Opportunity Description

The Indian Health Service (IHS) is committed to encouraging American Indians and Alaska Natives to enter the health professions and to assuring the availability of Indian health professionals to serve Indians. The IHS is committed to the recruitment of students for the following programs:

• The Indian Health Professions Preparatory Scholarship (Preparatory Scholarship) authorized by Section 103 of the Indian Health Care Improvement Act, Public Law 94-437 (1976), as amended (IHCIA), codified at 25 U.S.C. 1613(b)(1).

• The Indian Health Professions Pre-graduate Scholarship (Pre-graduate Scholarship) authorized by Section 103 of the IHCIA, codified at 25 U.S.C. 1613(b)(2).

• The Indian Health Professions Scholarship (Health Professions Scholarship) authorized by Section 104 of the IHCIA, codified at 25 U.S.C. 1613a.

Full-time and part-time scholarships will be funded for each of the three scholarship programs. The scholarship award selections and funding are subject to availability of funds.

II. Award Information

Type of Award

Scholarship.

Estimated Funds Available

An estimated $13.7 million will be available for fiscal year (FY) 2021 awards. The IHS Scholarship Program (IHSSP) anticipates, but cannot guarantee, student scholarship selections from any or all of the approved disciplines in the Preparatory Scholarship, Pre-graduate Scholarship, and Health Professions Scholarship programs for the scholarship period 2021-2022 academic year. Due to the rising cost of education and the decreasing number of scholars who can be funded by the IHSSP, the IHSSP previously changed the funding policy for Preparatory Scholarship and Pre-graduate Scholarship awards and reallocated a greater percentage of its funding in an effort to increase the number of Health Professions Scholarship, and inherently the number of service-obligated scholars, to better meet the health care needs of the IHS and its Tribal and Urban Indian health care system partners. This policy continues in effect for 2021-2022 academic year.

Anticipated Number of Awards

Approximately 25 new awards will be made by the IHSSP under the Preparatory Scholarship and Pre-graduate Scholarship programs for Indians. The awards are for 10 months in duration, with an additional 2 months for approved summer school requests, and will cover both tuition and fees and other related costs (ORC). The average award to a full-time student in both programs is approximately $40,372.61. Approximately 100 new awards will be made by the IHSSP under the Health Professions Scholarship program. The awards are for 12 months in duration and will cover both tuition and fees and ORC. The average award to a full-time student is approximately $120,814.38. Approximately a total of 300 awards will be made under the IHSSP Scholarship Program for FY 2021-2022.

Project Period

The project period for the Preparatory Scholarship stipend support, tuition, fees and ORC is limited to 2 years for full-time students and the part-time equivalent of 2 years, not to exceed 4 years for part-time students. The project period for the Pre-graduate Scholarship stipend support, tuition, fees and ORC is limited to 4 years for full-time students and the part-time equivalent of 4 years, not to exceed 8 years for part-time students. The Health Professions Scholarship provides stipend support, tuition, fees, and ORC and is limited to 4 years for full-time students and the part-time equivalent of 4 years, not to exceed 8 years for part-time students.

III. Eligibility Information

This is a limited competition announcement. New and continuation scholarship awards are limited to “Indians” as defined at 25 U.S.C. Section 1603(13). NOTE: The definition of “Indians” for Section 103 Preparatory Scholarship and Pre-graduate Scholarship is broader than the definition of “Indians” for the Section 104 Health Professions Scholarship, as specified below. Continuation awards are non-competitive.

1. Eligibility

The Indian Health Professions Preparatory Scholarship awards are made to American Indians (members of Federally recognized Tribes, including those from Tribes terminated since 1940, first and second degree descendants of members of federally recognized Tribes, members of State-recognized Tribes and first and second degree descendants of members of State-recognized Tribes), or Eskimo, Aleut, and other Alaska Natives who:

• Have successfully completed high school education or high school equivalency; and

• Have been accepted for enrollment in a compensatory, pre-professional general education course or curriculum.

The Indian Health Professions Pre-graduate Scholarship awards are made to American Indians (members of Federally recognized Tribes, including those from Tribes terminated since 1940, first and second degree descendants of members of federally recognized Tribes, members of State recognized Tribes, and first and second degree descendants of members of State-recognized Tribes), or Eskimo, Aleut, or other Alaska Natives who:

• Have successfully completed high school education or high school equivalency; and

• Have been accepted for enrollment or are enrolled in an accredited pre-graduate program leading to a baccalaureate degree in pre-medicine or pre-dentistry.

The Indian Health Professions Scholarship may only be awarded to an individual who is an Indian as defined by Section 1603(13) of the IHCIA. Membership in a Tribe recognized only by a State does not meet this statutory requirement. To receive an Indian Health Professions Scholarship, an otherwise eligible individual must be enrolled in an appropriately accredited school and pursuing a course of study in an eligible profession.

2. Cost Sharing/Matching

The IHS does not require matching funds or cost sharing for grants or cooperative agreements.

3. Benefits From State, Local, Tribal and Other Federal Sources

Awardees of the Preparatory Scholarship, Pre-graduate Scholarship, or Health Professions Scholarship, who accept outside funding from other scholarship, grant, and fee waiver programs, will have these monies applied to their student account tuition and fees charges at the college or university they are attending, before the IHSSP will pay any of the remaining balance, unless said outside scholarship, grant, or fee waiver award letter specifically excludes use for tuition and fees. These outside funding sources must be reported on the student's invoicing documents submitted by the college or university they are attending. Student loans and Veterans Administration (VA)/G.I. Bill benefits accepted by Health Professions Scholarship recipients will have no effect on the IHSSP payment made to their college or university.

IV. Application Submission Information

1. Electronic Application System and Application Handbook Instructions and Forms

Applicants must go online to: www.ihs.gov/scholarship/online_application/index.cfm to apply for an IHS scholarship and access the Application Handbook instructions for submitting a properly completed application for review and funding consideration. Applicants are strongly encouraged to seek consultation from their Area Scholarship Coordinator (ASC) in preparing their scholarship application for award consideration. The ASCs are listed on the IHS website at: https://www.ihs.gov/scholarship/areascholarshipcoordinators//. This information is listed below. Please review the following list to identify the appropriate IHS ASC for your State.

IHS area office and states/locality served | Scholarship coordinator address
Great Plains Area IHS:
Nebraska, Iowa, North Dakota, South Dakota | Mr. Matthew Martin, IHS Area Scholarship Coordinator, Great Plains Area IHS, 115 Fourth Avenue SE, Aberdeen, SD 57401, Tel: (605) 226-7502.
Alaska Area Native Health Services:
Alaska | Mr. Ryan Tubon, IHS Area Scholarship Coordinator, Alaska Area Native Health, 3900 Ambassador Drive, Anchorage, AK 99508, Tel: (907) 729-1324.
Albuquerque Area IHS:
Colorado, New Mexico | Ms. Michelle Aguilar Bowser, IHS Area Scholarship Coordinator, Albuquerque Area IHS, 4101 Indian School Rd. NE, Suite 225, Albuquerque, NM 87110, Tel: (505) 505-256-6731.
Bemidji Area IHS:
Illinois, Indiana, Michigan, Minnesota, Wisconsin | Mr. Tony Buckanaga, IHS Area Scholarship Coordinator, Bemidji Area IHS, 522 Minnesota Avenue NW, Room 115A, Bemidji, MN 56601, Tel: (218) 444-0486, (800) 892-3079 (toll free).
Billings Area IHS:
Montana, Wyoming | Mr. Brett Miller, IHS Area Scholarship Coordinator, Billings Area IHS, Area Personnel Office, P.O. Box 36600, 2900 Fourth Avenue North, Suite 400, Billings, MT 59107, Tel: (406) 247-7211.
California Area IHS:
California | Mr. Hakim Smith, IHS Area Scholarship Coordinator, California Area IHS, 650 Capitol Mall, Suite 7-100, Sacramento, CA 95814, Tel: (916) 930-3981 Ext. 316.
Nashville Area IHS:
Alabama, Arkansas, Connecticut, Delaware, Florida, Georgia, Kentucky, Louisiana, Maine, Maryland, Massachusetts, Mississippi, New Hampshire, New Jersey, New York, North Carolina, Ohio, Pennsylvania, Rhode Island, South Carolina, Tennessee, Vermont, Virginia, West Virginia, District of Columbia | Mr. Keith Neves, IHS Area Scholarship Coordinator, Nashville Area IHS, 711 Stewarts Ferry Pike, Nashville, TN 37214, Tel: (615) 467-1616.
Navajo Area IHS:
Arizona, New Mexico, Utah | Ms. Aletha John, IHS Area Scholarship Coordinator, Navajo Area IHS, P.O. Box 9020, Window Rock, AZ 86515, Tel: (928) 871-1360.
Oklahoma City Area IHS:
Kansas, Missouri, Oklahoma, Texas | Mr. Jarrod Tahsequah, IHS Area Scholarship Coordinator, Oklahoma City Area IHS, 701 Market Drive, Oklahoma City, OK 73114, Tel: (405) 951- 3714, (800) 722-3357 (toll free).
Phoenix Area IHS:
Arizona, Nevada, Utah | Mr. Aaron Arviso, IHS Area Scholarship Coordinator, Phoenix Area IHS, Southwest Region Human Resources, 40 North Central Avenue, Suite 510, Phoenix, AZ 85004, Tel: (602) 364-5228.
Portland Area IHS:
Idaho, Oregon, Washington | Ms. Heidi Hulsey, IHS Area Scholarship Coordinator, Portland Area IHS, 1414 NW Northrup Street, Suite 800, Portland, OR 97209, Tel: (503) 414-7745.
Tucson Area IHS:
Arizona | Mr. Aaron Arviso, (See Phoenix Area).

2. Content and Form Submission

Each applicant will be responsible for entering their basic applicant account information online, in addition to submitting required documents as requested. Applicants must initiate an application through the online portal or the application will be considered incomplete. For more information on how to use the online portal, go to www.ihs.gov/scholarship. The portal is expected to be open by December 30, 2020.

The following documents must be submitted by February 28, 2021, 7:00 p.m. Eastern:

• A completed online application.

• Official transcript(s) must be uploaded from the last college/university degree you earned, and from your current degree program. Official transcript(s) must support your intended enrollment/classification status for 2021-2022.

• Two Faculty/Employer Evaluations with faculty evaluators identified, evaluations transmitted and completed in the online applicant portal.

• Online narratives-reasons for requesting the scholarship.

• Delinquent Debt form completed in the online applicant portal.

• Course Curriculum Form completed in the online applicant portal. Non-selected applicants will be notified by the end of May. Selected applicants will be notified to upload the following documents within 30 days of notification:

• Current Letter of Acceptance from a college/university or proof of application to a college/university or health professions program.

• Applicant's Documents for Indian Eligibility.

If you are a member of a federally recognized Tribe or Alaska Native (recognized by the Secretary of the Interior), provide evidence of

A. Certification of Tribal enrollment by the Secretary of the Interior, acting through the Bureau of Indian Affairs (BIA) Certification: Form 4432—Category A or D, (whichever is applicable).

Note: If you meet the criteria of Form 4432—Category B or C, you are eligible only for the Preparatory or Pre-graduate Scholarships, which have eligibility criteria as follows in Section B.

B. For Preparatory Scholarship or Pre-graduate Scholarship, only: If you are a member of a Tribe terminated since 1940 or a State-recognized Tribe, provide official documentation that you meet the requirements of Tribal membership as prescribed by the charter, articles of incorporation or other legal instrument of the Tribe and have been officially designated as a Tribal member as evidenced by an accompanying document signed by an authorized Tribal official; or other evidence, satisfactory to the Secretary of the Interior, that you are a member of the Tribe. In addition, if the terminated or State-recognized Tribe of which you are a member is not on a list of such Tribes published by the Secretary of the Interior in the Federal Register, you must submit an official signed document that the Tribe has been terminated since 1940 or is recognized by the State in which the Tribe is located in accordance with the law of that State.

C. For Preparatory Scholarship or Pre-graduate Scholarship, only: If you are not a Tribal member, but are a natural child or grandchild of a Tribal member you must submit: (1) Evidence of that fact, e.g., your birth certificate and/or your parent's/grandparent's birth/death certificate showing the name of the Tribal member; and (2) evidence of your parent's or grandparent's Tribal membership in accordance with paragraphs A and B. The relationship to the Tribal member must be clearly documented. Failure to submit the required documentation will result in the application not being accepted for review.

• Degree/Major Plan of Study.

• Declaration of Federal Employment-OMB Form 3206-0162.

• Addendum OF 306 Form—OMB Form 0917-0028.

3. Submission Dates

Application Receipt Date: The online application submission deadline is February 28, 2021, 7:00 p.m. Eastern. No supporting documents will be accepted after this date and time, except final Letters of Acceptance, which must be submitted no later than July 1, 2021.

4. Intergovernmental Review

Executive Order 12372 requiring intergovernmental review is not applicable to this program.

5. Funding Restrictions

No more than five percent of available funds will be used for part-time scholarships this fiscal year. Students are considered part-time if they are enrolled for a minimum of six hours of instruction and are not considered in full-time status by their college/university. Documentation must be received from part-time applicants that their school and course curriculum allows less than full-time status. Both part-time and full-time scholarship awards will be made in accordance with the applicable authorizing statutes at 25 U.S.C. 1613 and 1613a and the regulations at 42 CFR part 136 Subpart J, Subdivisions J-3, J-4, and J-8 and this information will be published in all IHSSP Application and Student Handbooks as they pertain to the IHSSP.

6. Other Submissions Requirements

New and continuation applicants are responsible for using the online application system. See section 3. Submission Dates for application deadlines.

V. Application Review Information

1. Criteria

Selected applications will be reviewed and scored with the following criteria.

• Academic Performance (40 Points)

Applicants are rated according to their academic performance as evidenced by transcripts and faculty evaluations. In cases where a particular applicant's school has a policy not to rank students academically, faculty members are asked to provide a personal judgment of the applicant's achievement. Preparatory, Pre-graduate and Health Professions applicants with a cumulative GPA below 2.0 are not eligible for award.

• Faculty/Employer Recommendations (30 Points)

Applicants are rated according to evaluations by faculty members, current and/or former employers and Tribal officials regarding the applicant's potential in the chosen health related professions.

• Stated Reasons for Asking for the Scholarship and Stated Career Goals Related to the Needs of the IHS (30 Points)

Applicants must provide a brief written explanation of reasons for asking for the scholarship and of their career goals. Applicants are considered for scholarship awards based on their desired career goals and how these goals relate to current Indian health personnel needs.

The applicant's narrative will be judged on how well it is written and its content.

Applications for each health career category are reviewed and ranked separately.

• Applicants who are closest to graduation or completion of training are awarded first. For example, senior and junior applicants under the Pre-graduate Scholarship receive funding before freshmen and sophomores.

• Priority Categories

The following is a list of health professions that will be considered for funding in each scholarship program in FY 2021.

○ Preparatory Scholarship is limited to sophomore students pursuing the following degrees.

A. Pre-Nursing.

○ Pre-graduate Scholarship is limited to junior year and above students pursuing the following degrees.

A. Pre-Dentistry.

B. Pre-Medicine.

○ Health Professions Scholarship. This scholarship is limited to students who are or will be in the following plan of study by August 1, 2021.

A. Medicine—Allopathic and Osteopathic doctorate degrees.

B. Nursing—Bachelor of Science (BSN).

C. Nursing (NP, DNP)—Nurse Practitioner/Advanced Practice Nurse.

D. Nursing—Certified Nurse Midwife (CNM).

E. Certified Registered Nurse Anesthetist (CRNA).

F. Physician Assistant (certified).

G. Dentistry—DDS or DMD degree.

H. Social Work—Master's degree (Clinical).

I. Clinical Psychology—Ph.D. or PsyD.

J. Counseling Psychology—Ph.D.

K. Optometry—OD.

L. Pharmacy—PharmD.

M. Podiatry—DPM.

N. Physical Therapy—DPT.

O. Chiropractic—DC.

2. Review and Selection Process

Selected applications will be reviewed and scored by the IHSSP Application Review Committee appointed by the IHS. Reviewers will not be allowed to review an application from their area or their own Tribe. Each application will be reviewed by three reviewers. The average score of the three reviews provides the final ranking score for each applicant. To determine the ranking of each applicant, these scores are sorted from the highest to the lowest within each scholarship health discipline by date of graduation and score. If several students have the same date of graduation and score within the same discipline, the computer will randomly sort the ranking list and will not sort by alphabetical name. Selections are then made from the top of each ranking list to the extent that funds allocated by the IHS among the three scholarships are available for obligation.

VI. Award Administration Information

1. Award Notices

It is anticipated that recipients applying for extension of their scholarship funding will be notified in writing during the second week of June, 2021 and new applicants will be notified in writing during the second week of July 2021. An Award Letter will be issued to successful applicants. Unsuccessful applicants will be notified in writing.

2. Administrative and National Policy Requirements

Regulations at 42 CFR 136.304 provide that the IHS shall, from time to time, publish a list of allied health professions eligible for consideration for the award of the Preparatory Scholarship, Pre-graduate Scholarship, and Health Professions Scholarship. Section 104(b)(1) of the IHCIA, 25 U.S.C. 1613a(b)(1), authorizes the IHS to determine the distribution of scholarships among the health professions.

Awards for the Health Professions Scholarship will be made in accordance with the IHCIA, 25 U.S.C. 1613a and 42 CFR 136.330-136.334. Awardees shall incur a service obligation prescribed under the IHCIA, Section 1613a(b), shall be met by service, through full-time clinical practice (as detailed on page 18 of the IHSSP Service Commitment Handbook at: http://www.ihs.gov/scholarship/handbooks/service_commitment_handbook.pdf):

(1) In the IHS;

(2) In a program conducted under a contract or compact entered into under the Indian Self-Determination and Education Assistance Act (Pub. L. 93-638) and its amendments;

(3) In a program assisted under Title V of the Indian Health Care Improvement Act (Pub. L. 94-437) and its amendments; or

(4) In a private practice option of his or her profession if the practice (a) is situated in a health professional shortage area, designated in regulations promulgated by the Secretary of Health and Human Services (Secretary) and (b) addresses the health care needs of a substantial number (75 percent of the total served) of Indians as determined by the Secretary in accordance with guidelines of the Service.

Pursuant to the IHCIA Section 1613a(b)(3)(C), an awardee of a Health Professions Scholarship may, at the election of the awardee, meet his or her service obligation prescribed under IHCIA Section 1613a(b) by a program specified in options (1)-(4) above that:

(i) Is located on the reservation of the Tribe in which the awardee is enrolled; or

(ii) Serves the Tribe in which the awardee is enrolled, if there is an open vacancy available in the discipline for which the awardee was funded under the Health Professions Scholarship during the required 90-day placement period.

In summary, all awardees of the Indian Health Professions Scholarship are reminded that acceptance of this scholarship will result in a service obligation required by both statute and contract, that must be performed, through full-time clinical practice, at an approved service payback facility. The IHS Director (Director) reserves the right to make final decisions regarding assignment of scholarship recipients to fulfill their service obligation.

Moreover, the Director has the authority to make the final determination, designating a facility, whether managed and operated by the IHS, or one of its Tribal or Urban Indian partners, consistent with IHCIA, as approved for scholar-obligated service payback.

3. Reporting Requirements

Scholarship Program Minimum Academic Requirements

It is the policy of the IHS that a scholarship awardee funded under the Health Professions Scholarship Program of the IHCIA must maintain a 2.0 cumulative GPA, remain in good academic standing each semester/trimester/quarter, maintain full-time student status (institutional definition of “minimum hours” constituting full-time enrollment applies) or part-time student status (institutional definition of “minimum and maximum” hours constituting part-time enrollment applies) for the entire academic year, as indicated on the scholarship application submitted for that academic year. The Health Professions Scholarship awardee may not change his or her enrollment status between terms of enrollment during the same academic year unless approved in advance by the Branch Chief of Scholarships. New recipients may not request a leave of absence the first academic year. All requests for leave of absence are to be approved in advance by the Director, Division of Health Professions Support.

An awardee of a scholarship under the Preparatory Scholarship and Pre-graduate Scholarship authority must maintain a 2.0 cumulative GPA, remain in good standing each semester/trimester/quarter and be a full-time student (institutional definition of “minimum hours” constituting full-time enrollment applies, typically 12 credit hours per semester) or a part-time student (institutional definition of “minimum and maximum” hours constituting part-time enrollment applies, typically 6-11 credit hours). The Preparatory Scholarship and Pre-graduate Scholarship awardee may not change from part-time status to full-time status or vice versa in the same academic year unless approved in advance by the Branch Chief of Scholarships. New recipients may not request a leave of absence the first academic year.

The following reports must be sent to the IHSSP at the identified time frame. Each scholarship awardee will have access to online Student and Service Commitment Handbooks and required program forms and instructions on when, how, and to whom these must be submitted, by logging into the IHSSP website at www.ihs.gov/scholarship. If a scholarship awardee fails to submit these forms and reports as required, they will be ineligible for continuation of scholarship support and scholarship award payments will be discontinued.

A. Recipient's and Initial Progress Report

Within thirty days from the beginning of each semester/trimester/quarter, scholarship awardees must submit a Recipient's Initial Program Progress Report (Form IHS-856-8), found on the IHS Scholarship Program website at: http://www.ihs.gov/scholarship/programresources/studentforms/.

B. Transcripts

Within thirty days from the end of each academic period, i.e., semester/trimester/quarter, or summer session, scholarship awardees must submit an official transcript showing the results of the classes taken during that period.

C. Notification of Academic Problem

If at any time during the semester/trimester/quarter, scholarship awardees are advised to reduce the number of credit hours for which they are enrolled below the minimum of the 12 (or the number of hours considered by their school as full-time) for a full-time student or at least 6 hours for part-time students, or if they experience academic problems, they must submit this report (Form IHS-856-9), found on the IHS Scholarship Program website at: www.ihs.gov/scholarship/programresources/studentforms/.

D. Change of Status

• Change of Academic Status

Scholarship awardees must immediately notify their Scholarship Program Analyst if they are placed on academic probation, dismissed from school, or voluntarily withdraw for any reason (personal or medical).

• Change of Health Discipline

Scholarship awardees may not change from the approved IHSSP health discipline during the school year. If an unapproved change is made, scholarship payments will be discontinued.

• Change in Graduation Date

Any time that a change occurs in a scholarship awardee's expected graduation date, they must notify their Scholarship Program Analyst immediately in writing. Justification must be attached from the school advisor. Approvals must be made by the Branch Chief of Scholarships. New awardees are not eligible to change their graduation dates during the first year in the program since awards were based on graduation dates.

VII. Agency Contacts

1. Questions on the application process may be directed to the appropriate IHS Area Scholarship Coordinator.

2. Questions on other programmatic matters may be addressed to: Ms. Reta Brewer, Chief, Scholarship Program, 5600 Fishers Lane, Mail Stop: OHR (11E53A), Rockville, Maryland 20857, Telephone: (301) 443-6197 (This is not a toll-free number).

3. Questions on payment information may be directed to: Mr. Craig Boswell, Grants Scholarship Coordinator, Division of Grants Management, Indian Health Service, 5600 Fishers Lane, Mail Stop: (09E65A), Rockville, Maryland 20857, Telephone: (301) 443-0056 (This is not a toll-free number).

VIII. Other Information

The Public Health Service (PHS) is committed to achieving the health promotion and disease prevention objectives of Healthy People 2020, a PHS-led activity for setting priority areas. This program announcement is related to the priority area of Education and Community-Based Programs. Potential applicants may download a copy of Healthy People 2020 from http://www.healthypeople.gov.

Interested individuals are reminded that the list of eligible IHSSP health and allied professions is effective for applicants for the 2021-2022 academic year. These priorities will remain in effect until superseded. Applicants who apply for health career categories not listed as a priorities during the current scholarship cycle will not be considered for a scholarship award.

Michael D. Weahkee,
RADM, Assistant Surgeon General, U.S. Public Health Service, Director, Indian Health Service.

[FR Doc. 2020-23820 Filed 10-27-20; 8:45 am]

BILLING CODE 4165-16-P